DEPARTMENT OF TRANSPORTATION

Surface Transportation Board

[STB Docket No. AB-279 (Sub-No. 5X)]

Canadian National Railway Co.—Discontinuance of Trackage Rights Exemption—in Erie County, NY

The Canadian National Railway Company (CN) has filed a verified notice of exemption under 49 CFR part 1152 Subpart F—Exempt Abandonments and Discontinuances of Service and Trackage Rights to discontinue trackage rights over a 5.3-mile portion of trackage owned by New York Central Lines, LLC (NYC) and operated by CSX Transportation, Inc., in Buffalo, Erie County, NY. The line is described as the following segments: (a) NYC's Chicago Line between CP-2 and CP-5 (milepost 5.4+/−), near the south end of NYC's Seneca Yard; (b) NYC's Compromise Branch between CP-437 and CP-2; and (c) NYC's Bailey Avenue Branch between CP-T and CP-437. The line traverses United States Postal Service Zip Codes 14206, 14207, 14210, 14211, 14212, 14214, 14216, 14218, and 14220.

CN has certified that: (1) No local traffic has been handled to or from any customer for at least 2 years; (2) any overhead traffic routed over the line can be rerouted over other lines; (3) no formal complaint filed by a user of rail service on the line (or by a state or local government entity acting on behalf of such user) regarding cessation of service over the line either is pending with the Surface Transportation Board (Board) or with any U.S. District Court or has been decided in favor of complainant within the 2-year period; and (4) the requirements at 49 CFR 1152.50(d)(1) (notice to governmental agencies), and 49 CFR 1105.12 (newspaper publication) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on July 9, 2003, unless stayed pending reconsideration. Petitions to stay ¹ and formal expressions of intent to file an OFA under 49 CFR 1152.27(c)(2),² must be filed by June 19, 2003. Petitions to reopen must be filed by June 30, 2003, with the Surface Transportation Board, 1925 K Street, NW., Washington, DC 20423-0001.

¹ Because this is a discontinuance proceeding and not an abandonment, trail use/rail banking and public use conditions are not appropriate. Likewise, no environmental or historical documentation is required here under 49 CFR 1105.6(c), and 1105.8(b), respectively.

² Each offer of financial assistance must be accompanied by the filing fee, which currently is set at $1,100. See 49 CFR 1002.2(f)(25).

A copy of any petition filed with the Board should be sent to CN's representative: Michael J. Barron, Jr., Canadian National, 455 North Cityfront Plaza Drive, Chicago, IL 60611-5317. If the verified notice contains false or misleading information, the exemption is void ab initio.

Board decisions and notices are available on our Web site at http://www.stb.dot.gov.

Decided: May 30, 2003.
By the Board, David M. Konschnik, Director, Office of Proceedings.
Vernon A. Williams,
Secretary.

[FR Doc. 03-14202 Filed 6-6-03; 8:45 am]

BILLING CODE 4915-00-P